DEPARTMENT OF COMMERCE

National Oceanic and Atmospheric Administration

[RTID 0648-XD145]

Endangered and Threatened Species; Take of Abalone

AGENCY: National Marine Fisheries Service (NMFS), National Oceanic and Atmospheric Administration (NOAA), Commerce.

ACTION: Notice; Issuance of a scientific research and enhancement permit.

SUMMARY: Notice is hereby given that NMFS has renewed a scientific research and enhancement permit (Permit 14344-3R) issued to the University of California, Davis, under the Endangered Species Act (ESA). The research and enhancement activities are intended to support the recovery of white abalone listed under the Endangered Species Act (ESA) and inform management, conservation, and recovery efforts.

ADDRESSES: The permits and related documents are available for review upon written request via email to nmfs.wcr-apps@noaa.gov. Please include the permit number (14344-3R) in the subject line of the email.

FOR FURTHER INFORMATION CONTACT: Susan Wang, Long Beach, California, Phone: 562-980-4199, email: Susan.Wang@noaa.gov.

SUPPLEMENTARY INFORMATION: Notice was published in the Federal Register on January 18, 2023, that a permit renewal request had been submitted by the University of California, Davis. To locate the Federal Register notice that announced our receipt of the application and a complete description of the research, go to www.federalregister.gov and search for the permit number and Federal Register notice information provided in the table below.

Table 1—Issued Permits
Permit No. | RTID | Applicant | Previous Federal Register notice | Issuance date
14344-3R | 0648-XC679 | University of California, Davis—1850 Research Park Drive, Suite 300, Davis, CA 95618 (Responsible Party: Alyssa Frederick) | 88 FR 2889, January 18, 2023 | June 27, 2023.

In compliance with the National Environmental Policy Act of 1969 (42 U.S.C. 4321 et seq.), NMFS determined that the activities proposed are categorically excluded from the requirement to prepare an environmental assessment or environmental impact statement.

Authority

Scientific research permits are issued in accordance with section 10(a)(1)(A) of the ESA (16 U.S.C. 1531 et seq.) and regulations governing listed fish and wildlife permits (50 CFR 222-226). NMFS issues permits based on finding that such permits: (1) are applied for in good faith; (2) if granted and exercised, would not operate to the disadvantage of the listed species that are the subject of the permit; and (3) are consistent with the purposes and policy of section 2 of the ESA. The authority to take listed species is subject to conditions set forth in the permits.

Dated: July 7, 2023.
Angela Somma,
Chief, Endangered Species Division, Office of Protected Resources, National Marine Fisheries Service.

[FR Doc. 2023-14806 Filed 7-11-23; 8:45 am]

BILLING CODE 3510-22-P